ENVIRONMENTAL PROTECTION AGENCY

[FRL-12519-02-OA]

Rescheduling Meeting of the Local Government Advisory Committee

AGENCY: Environmental Protection Agency (EPA).

ACTION: Notification of public meeting.

SUMMARY: Pursuant to the Federal Advisory Committee Act (FACA), the EPA hereby provides notice of a meeting of the Local Government Advisory Committee (LGAC) on the date and time described below. This meeting will be open to the public. For information on public attendance and participation, please see the registration information under SUPPLEMENTARY INFORMATION.

DATES: The LGAC will have a virtual meeting January 10th, from 3 p.m.-4 p.m. Eastern Standard Time. This virtual meeting is being rescheduled from January 9th at 2 p.m., for which notice was provided on December 23, 2024 (2024-30752; 89 FR 104535). This is due to the closure of executive departments and agencies of the federal government on January 9th as a mark of respect for President Carter.

FOR FURTHER INFORMATION CONTACT: Frank Sylvester, Designated Federal Officer (DFO) of the Local Government Advisory Committee, at sylvester.frank.j@epa.gov or 202-564-1279.

Information on Accessibility: For information on access or services for individuals requiring accessibility accommodations, please send an email to LGAC@epa.gov. To request accommodation, please do so five (5) business days prior to the meeting, to give EPA as much time as possible to process your request.

SUPPLEMENTARY INFORMATION:

Content: The LGAC will discuss a welcome letter to the incoming administration, highlighting the committee's value to the Agency and where the committee can best help the Administration achieve its priorities. Meeting materials and recommendations will be posted online closer to the meeting dates.

Registration: The meeting will be held virtually through Microsoft Teams. Members of the public who wish to participate should register by contacting Frank Sylvester, Designated Federal Officer (DFO) of the Local Government Advisory Committee, at sylvester.frank.j@epa.gov or 202-564-1279 at least 24 hours of the meeting start time. The agenda and other supportive meeting materials will be available online at https://www.epa.gov/ocir/local-government-advisory-committee-lgac and can be obtained by written request to the DFO. In the event of cancellation for unforeseen circumstances, please contact the DFO or check the website above for reschedule information.

Francis Sylvester,
Designated Federal Officer, Office of Congressional and Intergovernmental Relations.

[FR Doc. 2025-00238 Filed 1-7-25; 8:45 am]

BILLING CODE 6560-50-P